DEPARTMENT OF ENERGY

Federal Energy Regulatory Commission

Combined Notice of Filings #1

Take notice that the Commission received the following electric rate filings:

Docket Numbers: ER10-2331-008; ER10-2343-008; ER10-2319-007; ER10-2320-007; ER10-2317-006; ER10-2322-008; ER10-2324-007; ER10-2325-006; ER10-2332-007; ER10-2326-008; ER10-2327-009; ER10-2328-007; ER11-4609-006; ER10-2898-007.

Applicants: J.P. Morgan Ventures Energy Corporation, Triton Power Michigan LLC, BE Allegheny LLC, BE CA LLC, BE Ironwood LLC, BE KJ LLC, BE Rayle LLC, BE Alabama LLC, BE Louisiana LLC, Cedar Brakes I, L.L.C., Utility Contract Funding, L.L.C., Central Power & Lime LLC, Cedar Brakes II, L.L.C., J.P. Morgan Commodities Canada Corporation.

Description: Notice of Non-Material Change in Status of J.P. Morgan Ventures Energy Corporation, et al.

Filed Date: 7/30/12.

Accession Number: 20120730-5219.

Comments Due: 5 p.m. ET 8/20/12.

Docket Numbers: ER10-2331-009; ER10-2343-009; ER10-2319-008; ER10-2320-008; ER10-2317-007; ER10-2322-009; ER10-2324-008; ER10-2325-007; ER10-2332-008; ER10-2326-009; ER10-2327-010; ER10-2328-008; ER11-4609-007; ER10-2898-008.

Applicants: J.P. Morgan Ventures Energy Corporation, Triton Power Michigan LLC, BE Ironwood LLC, BE KJ LLC, BE Alabama LLC, BE Louisiana LLC, Cedar Brakes I, L.L.C., Utility Contract Funding, L.L.C., Central Power & Lime LLC, Cedar Brakes II, L.L.C., J.P. Morgan Commodities Canada Corporation, BE CA LLC, BE Rayle LLC, BE Allegheny LLC.

Description: Notice of Non-Material Change in Status of J.P. Morgan Ventures Energy Corporation, et al.

Filed Date: 7/30/12.

Accession Number: 20120730-5220.

Comments Due: 5 p.m. ET 8/20/12.

Docket Numbers: ER10-2331-010; ER10-2343-010; ER10-2319-009; ER10-2320-009; ER10-2317-008; ER10-2322-010; ER10-2324-009; ER10-2325-008; ER10-2332-009; ER10-2326-010; ER10-2327-011 ER10-2328-009 ER11-4609-008 ER10-2898-009.

Applicants: J.P. Morgan Ventures Energy Corporation, BE Allegheny LLC, BE CA LLC, BE Ironwood LLC, BE KJ LLC, BE Rayle LLC, BE Alabama LLC, BE Louisiana LLC, Cedar Brakes I, L.L.C., Utility Contract Funding, L.L.C., Central Power & Lime LLC, Cedar Brakes II, L.L.C., Triton Power Company, J.P. Morgan Commodities Canada Corporation, BE Allegheny LLC.

Description: Notice of Non-Material Change in Status of J.P. Morgan Ventures Energy Corporation, et al.

Filed Date: 7/30/12.

Accession Number: 20120730-5221.

Comments Due: 5 p.m. ET 8/20/12.

Docket Numbers: ER10-2776-004.

Applicants: Wells Fargo Commodities, LLC.

Description: Notice of Non-Material Change in Status, Wells Fargo Commodities LLC.

Filed Date: 7/30/12.

Accession Number: 20120730-5214.

Comments Due: 5 p.m. ET 8/20/12.

Docket Numbers: ER11-113-002.

Applicants: Sandy Ridge Wind, LLC.

Description: Notice of Non-Material Change in Status of Sandy Ridge Wind, LLC.

Filed Date: 7/30/12.

Accession Number: 20120730-5213.

Comments Due: 5 p.m. ET 8/20/12.

Docket Numbers: ER11-3589-002.

Applicants: Long Island Solar Farm, LLC.

Description: Notification of non-material change in status of Long Island Solar Farm, LLC.

Filed Date: 7/30/12.

Accession Number: 20120730-5218.

Comments Due: 5 p.m. ET 8/20/12.

Docket Numbers: ER11-3781-001.

Applicants: Midwest Independent Transmission System Operator, Inc.

Description: 07-30-12 RAR Compliance to be effective 7/28/2010.

Filed Date: 7/30/12.

Accession Number: 20120730-5115.

Comments Due: 5 p.m. ET 8/20/12.

Docket Numbers: ER12-1577-001.

Applicants: Midwest Independent Transmission System Operator, Inc.

Description: 07-30-12 MEP Compliance to be effective 7/1/2012.

Filed Date: 7/30/12.

Accession Number: 20120730-5124.

Comments Due: 5 p.m. ET 8/20/12.

Docket Numbers: ER12-1708-000.

Applicants: Midwest Independent Transmission System Operator, Inc., ITC Midwest LLC.

Description: Response to Deficiency Letter of ITC Midwest LLC.

Filed Date: 7/30/12.

Accession Number: 20120730-5210.

Comments Due: 5 p.m. ET 8/20/12.

Docket Numbers: ER12-1809-001.

Applicants: ISO New England Inc.

Description: Compliance Filing—Posturing Rule Changes 1 of 2 to be effective 5/18/2012.

Filed Date: 7/30/12.

Accession Number: 20120730-5075.

Comments Due: 5 p.m. ET 8/20/12.

Docket Numbers: ER12-1809-002.

Applicants: ISO New England Inc.

Description: Compliance Filing Concerning Posturing Rule Changes 2 of 2 to be effective 10/1/2012.

Filed Date: 7/30/12.

Accession Number: 20120730-5082.

Comments Due: 5 p.m. ET 8/20/12.

Docket Numbers: ER12-2349-000.

Applicants: Kit Carson Windpower, LLC.

Description: Merger-Related MBR Tariff Filing to be effective 7/2/2012.

Filed Date: 7/27/12.

Accession Number: 20120727-5193.

Comments Due: 5 p.m. ET 8/17/12.

Docket Numbers: ER12-2350-000.

Applicants: Northern States Power Company, a Wisconsin corporation.

Description: 2012_7_30_NSPW CDTT Const Intercon Fac Agrmt-116 to be effective 7/2/2012.

Filed Date: 7/30/12.

Accession Number: 20120730-5136.

Comments Due: 5 p.m. ET 8/20/12.

Docket Numbers: ER12-2351-000.

Applicants: Northern States Power Company, a Wisconsin corporation.

Description: 2012_7_30_NSPW HH Meter Data Access Agrmt-134 to be effective 5/31/2012.

Filed Date: 7/30/12.

Accession Number: 20120730-5137.

Comments Due: 5 p.m. ET 8/20/12.

Docket Numbers: ER12-2352-000.

Applicants: Massachusetts Electric Company.

Description: 2012 Rate Update Filing for Massachusetts Electric Borderline Sales Agreement to be effective 11/1/2011.

Filed Date: 7/30/12.

Accession Number: 20120730-5163.

Comments Due: 5 p.m. ET 8/20/12.

Docket Numbers: ER12-2353-000.

Applicants: Lively Grove Energy Partners, LLC.

Description: Lively Grove Energy Partners, LLC Reactive Power Rate Schedule for PSEC to be effective 10/1/2012.

Filed Date: 7/30/12.

Accession Number: 20120730-5187.

Comments Due: 5 p.m. ET 8/20/12.

Docket Numbers: ER12-2354-000.

Applicants: Pacific Gas and Electric Company.

Description: CCSF IA—38th Quarterly Filing of Facilities Agreements to be effective 6/30/2012.

Filed Date: 7/30/12.

Accession Number: 20120730-5193.

Comments Due: 5 p.m. ET 8/20/12.

Take notice that the Commission received the following land acquisition reports:

Docket Numbers: LA12-2-000.

Applicants: Bishop Hill Energy II LLC, Cordova Energy Company LLC, MidAmerican Energy Company, and Saranac Power Partners, L.P.

Description: Quarterly Land Acquisition Report of Bishop Hill Energy II LLC, et al.

Filed Date: 7/30/12.

Accession Number: 20120730-5113.

Comments Due: 5 p.m. ET 8/20/12.

Docket Numbers: LA12-2-000.

Applicants: Cedar Creek II, LLC, Copper Mountain Solar 1, LLC, Copper Mountain Solar 2, LLC, Energia Sierra Juarez U.S., LLC, Flat Ridge 2 Wind Energy LLC, Fowler Ridge II Wind Farm LLC, Mesquite Power, LLC, Mesquite Solar 1, LLC, San Diego Gas & Electric Company, Sempra Energy Trading LLC, Sempra Generation, Termoelectrica U.S., LLC.

Description: Quarterly Land Acquisition Report of Sempra Generation, et al. under LA12-2.

Filed Date: 7/30/12.

Accession Number: 20120730-5116.

Comments Due: 5 p.m. ET 8/20/12.

Docket Numbers: LA12-2-000.

Applicants: Alabama Electric Marketing, LLC, Big Sandy Peaker Plant, LLC, California Electric Marketing, LLC, Crete Energy Venture, LLC, CSOLAR IV South, LLC, High Desert Power Project, LLC, Kiowa Power Partners, LLC, Lincoln Generating Facility, LLC, New Covert Generating Company, LLC, New Mexico Electric Marketing, LLC, Rolling Hills Generating, L.L.C., Tenaska Alabama Partners, L.P., Tenaska Alabama II Partners, L.P., Tenaska Frontier Partners, Ltd., Tenaska Gateway Partners, Ltd., Tenaska Georgia Partners, L.P., Tenaska Power Management, LLC, Tenaska Power Services Co., Tenaska Virginia Partners, L.P., Tenaska Washington Partners, L.P., Texas Electric Marketing, LLC, TPF Generation Holdings, LLC, and Wolf Hills Energy, LLC.

Description: Quarterly Land Acquisition Report of Alabama Electric Marketing, LLC, et al.

Filed Date: 7/30/12.

Accession Number: 20120730-5133.

Comments Due: 5 p.m. ET 8/20/12.

Docket Numbers: LA12-2-000.

Applicants: Astoria Generating Company, L.P.

Description: Quarterly Land Acquisition Report of Astoria Generating Company, L.P.

Filed Date: 7/30/12.

Accession Number: 20120730-5205.

Comments Due: 5 p.m. ET 8/20/12.

Docket Numbers: LA12-2-000.

Applicants: Bluegrass Generation Company, L.L.C., Blythe Energy, LLC, Calhoun Power Company, LLC, Cherokee County Cogeneration Partners, LLC, DeSoto County Generating Company, LLC, Doswell Limited Partnership, Las Vegas Power Company, LLC, LS Power Marketing, LLC, LSP Safe Harbor Holdings, LLC, LSP University Park, LLC, Renaissance Power, L.L.C., Riverside Generating Company, L.L.C., Rocky Road Power, LLC, Tilton Energy LLC, University Park Energy, LLC, Wallingford Energy LLC, and Wyoming Colorado Intertie, LLC.

Description: Quarterly Land Acquisition Report of Blythe Energy, LLC, et al.

Filed Date: 7/30/12.

Accession Number: 20120730-5206.

Comments Due: 5 p.m. ET 8/20/12.

Take notice that the Commission received the following electric reliability filings:

Docket Numbers: RR12-12-000.

Applicants: North American Electric Reliability Corporation.

Description: Petition of the North American Electric Reliability Corporation for Approval of Amendments to Delegation Agreement with ReliabilityFirst Corporation—Amendments to ReliabilityFirst's Bylaws and Reliability Standards Development Procedure.

Filed Date: 7/30/12.

Accession Number: 20120730-5188.

Comment Date: 5 p.m. ET 8/20/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 31, 2012.
Nathaniel J. Davis, Sr.,
Deputy Secretary.

[FR Doc. 2012-19758 Filed 8-10-12; 8:45 am]

BILLING CODE 6717-01-P